DEPARTMENT OF COMMERCE

National Oceanic and Atmospheric Administration

Proposed Information Collection; Comment Request; Implementation of Vessel Speed Restrictions To Reduce the Threat of Ship Collisions With North Atlantic Right Whales

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before December 9, 2019.

ADDRESSES: Direct all written comments to Adrienne Thomas, PRA Officer, NOAA, 151 Patton Avenue, Room 159, Asheville, NC 28801 (or at PRAcomments@doc.gov). All comments received are part of the public record. Comments will generally be posted without change. All Personally Identifiable Information (for example, name and address) voluntarily submitted by the commenter may be publicly accessible. Do not submit Confidential Business Information or otherwise sensitive or protected information.

FOR FURTHER INFORMATION CONTACT: Requests for additional information or copies of the information collection instrument and instructions should be directed to Caroline Good, Ph.D., caroline.good@noaa.gov, Office of Protected Resources, NMFS.

SUPPLEMENTARY INFORMATION:

I. Abstract

This request is for a revision and extension of a currently approved information collection.

On October 10, 2008, the National Marine Fisheries Service published a final rule implementing speed restrictions to reduce the incidence and severity of ship collisions with North Atlantic right whales (73 FR 60173). Under this rule, most non-sovereign vessels greater than or equal to 65ft in overall length are required to travel at a speed of 10 knots or less within Seasonal Management Areas along the east coast at certain times of year.

The final rule contained a collection-of-information requirement subject to the Paperwork Reduction Act (PRA) in limited circumstances when a vessel needs to transit at a speed above 10 knots to maintain safe maneuverability. Specifically, 50 CFR 224.105(c) requires a logbook entry if a deviation from the 10 knot speed limit is necessary for safe maneuverability of a vessel “in an area where oceanographic, hydrographic and/or meteorological conditions severely restrict the maneuverability of the vessel”. The logbook entry must provide the reasons for the deviation, the speed at which the vessel is operated and the area, time and duration of the deviation.

This extension includes a modest increase in the anticipated number of respondents and annual burden hours due to an increase in the number of vessels transiting through seasonal speed restricted areas over time.

II. Method of Collection

This information collection requires an entry into the vessel's logbook.

III. Data

OMB Control Number: 0648-0580.

Form Number(s): None.

Type of Review: Regular submission.

Affected Public: Businesses or other for-profit organizations, non-profit institutions and individuals or households.

Estimated Number of Respondents: 3263.

Estimated Time per Response: 5 minutes.

Estimated Total Annual Burden Hours: 272.

Estimated Total Annual Cost to Public: $0 in recordkeeping/recording costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Departmental Lead PRA Officer, Office of the Chief Information Officer, Commerce Department.

[FR Doc. 2019-22001 Filed 10-8-19; 8:45 am]

BILLING CODE 3510-22-P